DEPARTMENT OF HOMELAND SECURITY

Coast Guard

33 CFR Part 165

[Docket No. USCG-2021-0500]

Safety Zone; Brandon Road Lock and Dam to Lake Michigan Including Des Plaines River, Chicago Sanitary and Ship Canal, Chicago River, and Calumet-Saganashkee Channel; Chicago River Between the Michigan Avenue Bridge and Columbus Drive Bridge, Chicago, IL

AGENCY: Coast Guard, DHS.

ACTION: Notice of enforcement of regulation.

SUMMARY: The Coast Guard will enforce a safety zone, on the main branch of the Chicago River between the Michigan Avenue Bridge and the Columbus Drive Bridge for the Chicago Ducky Derby Marine Event. During the enforcement period, entry into, transiting, mooring, laying-up, or anchoring within the established safety zone is prohibited unless authorized by the Captain of the Port Lake Michigan or an on-scene designated representative.

DATES: A segment of the regulation in 33 CFR 165.930 will be enforced on August 5, 2021, from 11 a.m. through 2 p.m.

FOR FURTHER INFORMATION CONTACT: If you have questions about this notice of enforcement, call or email Petty Officer Eric Krukar, Marine Safety Unit Chicago, U.S. Coast Guard; telephone: 630-986-2155, email: Eric.R.Krukar@uscg.mil.

SUPPLEMENTARY INFORMATION: The Coast Guard will enforce a segment of the safety zone listed safety zone in 33 CFR 165.930. The segment of the safety zone to be enforced is between the Michigan Avenue Bridge and the Columbus Drive Bridge on the main branch of the Chicago River. This action is being taken to provide for the safety of life on navigable waterways during the Chicago Ducky Derby Marine Event. Our regulation for marine events within the Ninth Coast Guard District, § 165.930, specifies the Captain of the Port Lake Michigan, may enforce this safety zone in whole, in segments, or by any combination of segments. The Captain of the Port Lake Michigan may suspend the enforcement of any segment of this safety zone for which notice of enforcement had been given.

During the enforcement periods, as reflected in § 165.930 (d), entry into, transiting, mooring, laying up, or anchoring within any enforced segment of the safety zone is prohibited unless authorized by the Captain of the Port Lake Michigan, or a designated representative. This notice of enforcement is issued under authority of 33 CFR 165.930 and 5 U.S.C. 552(a). In addition to this notice in the Federal Register, the Coast Guard will provide the maritime community with advance notification of the above-specified enforcement periods of this safety zone via Broadcast Notice to Mariners and Local Notice to Mariners. The Captain of the Port Lake Michigan or a designated on-scene representative may be contacted via Channel 16, VHF-FM or at (414) 747-7182.

Dated: July 28, 2021.
Donald P. Montoro,
Captain, U.S. Coast Guard, Captain of the Port, Lake Michigan.

[FR Doc. 2021-16457 Filed 8-2-21; 8:45 am]

BILLING CODE 9110-04-P